DEPARTMENT OF COMMERCE

Foreign-Trade Zones Board

[B-33-2016]

Foreign-Trade Zone (FTZ) 281—Miami, Florida; Authorization of Production Activity; Alpha Marketing Network, Inc. d/b/a AMN Distributors (Kitting-Wine Gift Sets); Miami, Florida

On May 3, 2016, Miami-Dade County, grantee of FTZ 281, submitted a notification of proposed production activity to the FTZ Board on behalf of Alpha Marketing Network, Inc. d/b/a AMN Distributors, within Site 41 in Miami, Florida.

The notification was processed in accordance with the regulations of the FTZ Board (15 CFR part 400), including notice in the Federal Register inviting public comment (81 FR 30517, May 17, 2016). The FTZ Board has determined that no further review of the activity is warranted at this time. The production activity described in the notification is authorized, subject to the FTZ Act and the Board's regulations, including Section 400.14.

Dated: August 30, 2016.
Andrew McGilvray,
Executive Secretary.

[FR Doc. 2016-21339 Filed 9-2-16; 8:45 am]

BILLING CODE 3510-DS-P